DEPARTMENT OF COMMERCE

International Trade Administration

(A-489-807)

Certain Steel Concrete Reinforcing Bars from Turkey; Final Results of the Expedited Sunset Review of the Antidumping Duty Order

AGENCY: Import Administration, International Trade Administration, Department of Commerce.

SUMMARY: On February 1, 2008, the Department of Commerce (the Department) initiated a sunset review of the antidumping duty order on certain steel concrete reinforcing bars (rebar) from Turkey pursuant to section 751(c) of the Tariff Act of 1930, as amended (the Act). The Department conducted an expedited (120-day) sunset review of this order. As a result of this sunset review, the Department finds that revocation of the antidumping duty order would be likely to lead to continuation or recurrence of dumping. The dumping margins are identified in the Final Results of Review section of this notice.

EFFECTIVE DATE: May 5, 2008.

FOR FURTHER INFORMATION: Irina Itkin or Brandon Farlander, AD/CVD Operations, Import Administration, International Trade Administration, U.S. Department of Commerce, 14th Street & Constitution Avenue, NW, Washington, DC 20230; telephone: (202) 482-0656 or (202) 482-0182, respectively.

SUPPLEMENTARY INFORMATION:

Background

On February 1, 2008, the Department published the notice of initiation of the second sunset review of the antidumping duty order on rebar from Turkey pursuant to section 751(c) of the Act. See Initiation of Five-year (“Sunset”) Reviews, 73 FR 6128 (Feb. 1, 2008). The Department received the Notice of Intent to Participate from Nucor Corporation, CMC Steel Group, and Gerdau Ameristeel, Inc. (collectively “the domestic interested parties”), within the deadline specified in 19 CFR 351.218(d)(1)(i) (Sunset Regulations). The domestic interested parties claimed interested party status under section 771(9)(C) of the Act, as manufacturers of a domestic-like product in the United States.

We received complete substantive responses from the domestic interested parties within the 30-day deadline specified in 19 CFR 351.218(d)(3)(i). We received no responses from respondent interested parties with respect to the order covered by this sunset review. As a result, pursuant to section 751(c)(4)(A) of the Act and 19 CFR 351.218(e)(1)(ii)(C)(2), the Department conducted an expedited (120-day) sunset review of this order.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this proceeding is dispositive.

Analysis of Comments Received

All issues raised in this review are addressed in the “Issues and Decision Memorandum for the Expedited Sunset Review of the Antidumping Duty Order on Certain Steel Concrete Reinforcing Bars from Turkey; Final Results” (Decision Memo) from Stephen J. Claeys, Deputy Assistant Secretary for Import Administration, to David M. Spooner, Assistant Secretary for Import Administration, dated DATE 2008, which is hereby adopted by this notice. The issues discussed in the Decision Memo include the likelihood of continuation or recurrence of dumping and the magnitude of the margins likely to prevail if the order were to be revoked. Parties can find a complete discussion of all issues raised in this review and the corresponding recommendations in this public memorandum which is on file in the Central Records Unit, room 1117 of the main Commerce building.

In addition, a complete version of the Decision Memo can be accessed directly on the Web at http://ia.ita.doc.gov/frn, under the heading “April 2008.” The paper copy and electronic version of the Decision Memo are identical in content.

Final Results of Review

We determine that revocation of the antidumping duty order on rebar from Turkey would be likely to lead to continuation or recurrence of dumping at the following weighted-average percentage margins:

Manufacturers/Exporters/Producers | Weighted Average Margin (percent)
Colakoglu Metalurji A.S. | Revoked¹
Ekinciler Demir Celik A.S. | 18.68
Habas Sinai Ve Tibbi Gazlar Istihsal Endustrisi A.S. | 18.54
Izmir Demir Celik Sanayi A.S. | 41.80
Izmir Metalurji Fabrikasi Turk A.S. | 30.16
All Others | 16.06²
¹ See Certain Steel Concrete Reinforcing Bars From Turkey; Final Results of Antidumping Duty Administrative Review and New Shipper Review and Determination to Revoke in Part, 72 FR 62630, 62631 (Nov. 6, 2007).
² On November 8, 2005, and November 6, 2007, respectively, ICDAS Celik Enerji Tersane ve Ulasim Sanayi, A.S. (ICDAS) and Diler Demir Celik Endustrisi ve Ticaret A.S./Diler Dis Ticaret A.S./Yazici Demir Celik Sanayi ve Turizm Ticaret A.S. were revoked from the order. We have a request pending before the Court of International Trade to reinstate ICDAS in the order.

This notice also serves as the only reminder to parties subject to administrative protective orders (APO) of their responsibility concerning the return or destruction of proprietary information disclosed under APO in accordance with 19 CFR 351.305 of the Department's regulations. Timely notification of the return or destruction of APO materials or conversion to judicial protective orders is hereby requested. Failure to comply with the regulations and terms of an APO is a violation which is subject to sanction.

We are issuing and publishing the results and notice in accordance with sections 751(c), 752, and 777(i)(1) of the Act.

Dated: April 29, 2008.
David M. Spooner,
Assistant Secretary for Import Administration.

[FR Doc. E8-9851 Filed 5-2-08; 8:45 am]

BILLING CODE 3510-DS-S